DEPARTMENT OF HEALTH AND HUMAN SERVICES

National Institutes of Health

National Institute of Neurological Disorders and Stroke; Notice of Meeting

Pursuant to section 10(a) of the Federal Advisory Committee Act, as amended (5 U.S.C. Appendix 2), notice is hereby given of a meeting of the Muscular Dystrophy Coordinating Committee.

the meeting will be open to the public, with attendance limited to space available. Individuals who plan to attend and need special assistance, such as sign language interpretation or other reasonable accommodations, should inform the contact person listed below in advance of the meeting.

Name of Committee: Muscular Dystrophy Coordinating Committee.

Date: March 22, 2004.

Time: 8:30 a.m. to 4 p.m.

Agenda: The Muscular Dystrophy Coordinating Committee (MDCC) is mandated by the MD-CARE Act to “develop a plan for conducting and supporting research and education on muscular dystrophy through the national research institutes.” The purpose of this meeting is to review and discuss a draft muscular dystrophy research and education plan for NIH.

Place: Bethesda Marriott Suites, 6711 Democracy Boulevard, Bethesda, Maryland 20817.

Contact Person: Lorraine Fitzsimmons, Executive Secretary, Muscular Dystrophy Coordinating Committee, Director, Office of Science Policy and Planning, National Institute of Neurological Disorders and Stroke, NIH, 31 Center Drive, Room 8A023, MSC 2540, Bethesda, MD 20892, E-mail: fitzsiml@ninds.nih.gov, Phone: (301) 496-9271.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

(Catalogue of Federal Domestic Assistance Program Nos. 93.853, Clinical Research Related to Neurological Disorders; 93.854, Biological Basis Research in the Neurosciences, National Institutes of Health, HHS).
Dated: February 25, 2004.
LaVerne Y. Stringfield,
Director, Office of Federal Advisory Committee Policy.

[FR Doc. 04-4637 Filed 3-2-04; 8:45 am]

BILLING CODE 4140-01-M